DEPARTMENT OF COMMERCE

International Trade Administration

Export Trade Certificate of Review

ACTION: Notice of Issuance of an Export Trade Certificate of Review, Application No. 88-5A013.

SUMMARY: The Department of Commerce has issued an amended Export Trade Certificate of Review (“Certificate”) to the Construction Industry Suppliers Association of America International (“CISAI”) on January 13, 2000. Notice of issuance of the original Certificate was published in the Federal Register on October 26, 1988 (53 FR 43253).

FOR FURTHER INFORMATION CONTACT: Morton Schnabel, Director, Office of Export Trading Company Affairs, International Trade Administration, 202-482-5131. This is not a toll-free number.

SUPPLEMENTARY INFORMATION: Title III of the Export Trading Company Act of l982 (15 U.S.C. 4001-21) authorizes the Secretary of Commerce to issue Export Trade Certificates of Review. The regulations implementing Title III are found at 15 CFR part 325 (l997).

The Office of Export Trading Company Affairs (“OETCA”) is issuing this notice pursuant to l5 CFR 325.6(b), which requires the Department of Commerce to publish a summary of a Certificate in the Federal Register. Under section 305 (a) of the Act and l5 CFR 325.11(a), any person aggrieved by the Secretary's determination may, within 30 days of the date of this notice, bring an action in any appropriate district court of the United States to set aside the determination on the ground that the determination is erroneous.

Description of Amended Certificate

Casting Industry Suppliers of America International's original Certificate was issued on October 13, 1988 (53 FR 43253, October 26, 1988), and previously amended on March 2, 1990 (55 FR 23123, June 6, 1990), December 16, 1991 (57 FR 883, January 9, 1992) and on October 9, 1997 (62 FR 54832, October 22, 1997). Casting Industry Suppliers of America International's Certificate has been amended to:

1. Change the listing of the Certificate holder cited in this paragraph to the new listing cited in this paragraph in parenthesis as follows: CISA Export Trade Group, Inc. (Casting Industry Suppliers of America International); and

2. Change the listing of the “Member” cited in this paragraph to the new listing cited in this paragraph in parenthesis as follows: Didion Manufacturing Company (Didion International, Inc.); and

3. Delete the following companies as “Members” of the Certificate within the meaning of section 325.2 (1) of the Regulations (15 CFR 325.2 (1)): Georg Fischer Disa, Inc., Holly, MI; Hickman, Williams & Company, Livonia, MI; Borden Chemical Company, Louisville, KY; Delta Resins & Refractories, Milwaukee, WI; Vulcan Engineering, Helena, AL and

4. Add the following companies as new “Members” of the Certificate within the meaning of § 325.2 (1) of the regulations (15 CFR 325.2 (1)): ABB Industrial System Inc, Columbus, Ohio, for the activities of its division ABB Metallurgy, New Brunswick, NJ; CSI Industrial Systems Corporation, Grayling, MI; Fairmount Minerals, Ltd., Chardon, OH; and Hamilton Technical Ceramics, Paris, ON Canada.

A copy of the amended certificate will be kept in the International Trade Administration's Freedom of Information Records Inspection Facility Room 4102, U.S. Department of Commerce, l4th Street and Constitution Avenue, NW, Washington, DC 20230.

Dated: January 13, 2000.
Morton Schnabel,
Director, Office of Export Trading Company Affairs.

[FR Doc. 00-2569 Filed 2-3-00; 8:45 am]

BILLING CODE 3510-DR-P